DEPARTMENT OF LABOR

Occupational Safety and Health Administration

[Docket No. ICR-1218-0186(2001)]

Cadmium in Construction Standard (29 CFR 1926.1127); Extension of the Office of Management and Budget's (OMB) Approval of the Information-Collection (Paperwork) Requirements

AGENCY: Occupational Safety and Health Administration (OSHA), Labor.

ACTION: Notice of an opportunity for public comment.

SUMMARY: OSHA solicits comments concerning its request to increase the existing burden-hour estimates for, and to extend OMB approval of, the collection-of-information requirements of the Cadmium in Construction Standard (29 CFR 1926.1127).

DATES: Submit written comments on or before July 31, 2001.

ADDRESSES: Submit written comments to the Docket Office, Docket No. ICR-1218-0186(2001), OSHA, U.S. Department of Labor, Room N-2625, 200 Constitutional Avenue, NW., Washington, DC 20210; telephone (202) 693-2350. Commenters may transmit written comments of 10 pages or less by facsimile to (202) 693-1648.

FOR FURTHER INFORMATION CONTACT: Todd Owen, Directorate of Policy, OSHA, U.S. Department of Labor, Room N-3641, 200 Constitution Avenue, NW., Washington, DC 20210; telephone (202) 693-2444. A copy of the Agency's Information-Collection Request (ICR) supporting the need for the information collections specified in the Cadmium in Construction Standard is available for inspection and copying in the Docket Office or by requesting a copy from Todd Owen at (202) 693-2444. For electronic copies of the ICR contact OSHA on the Internet at http://www.osha.gov/comp-links.html, and select “Information Collection Requests.”

SUPPLEMENTARY INFORMATION:

I. Background

The Department of Labor, as part of its continuing effort to reduce paperwork and respondent (i.e., employer) burden, conducts a preclearance consultation program to provide the public with an opportunity to comment on proposed and continuing information-collection requirements in accordance with the Paperwork Reduction Act of 1995 (PRA-95) (44 U.S.C. 3506(c)(2)(A)). This program ensures that information is in the desired format, reporting burden (time and cost) is minimal, collection instruments are understandable, and OSHA's estimate of the information-collection burden is correct. The Occupational Safety and Health Act of the 1970 (the Act) authorizes information collection by employers as necessary or appropriate for enforcement of the Act or for developing information regarding the causes and prevention of occupational injuries, illnesses, and accidents (29 U.S.C. 657).

The information-collection requirements specified in the Cadmium in Construction Standard (§ 1926.1127) protect employees from the adverse health effects that may result from occupational exposure to cadmium. The major information-collection requirements in § 1926.1127 include conducting employee exposure monitoring, notifying employees of their cadmium exposures, implementing a written compliance program, implementing a written emergency plan for managing inadvertent and substantial releases of airborne cadmium, implementing medical surveillance of employees, providing examining physicians with specific information, ensuring that employees receive a copy of their medical-surveillance results, maintaining employees' exposure-monitoring and medical records for specific periods, and providing access to these records by OSHA, the National Institute for Occupational Safety and Health, the affected employees, and their authorized representatives.

II. Special Issues for Comment

OSHA has a particular interest in comments on the following issues:

• Whether the proposed information-collection requirements are necessary for the proper performance of the Agency's functions, including whether the information is useful;

• The accuracy of OSHA's estimate of the burden (time and cost) of the information-collection requirements, including the validity of the methodology and assumptions used;

• The quality, utility, and clarity of the information collected; and

• Ways to minimize the burden on employers who must comply; for example, by using automated or other technological information-collection and -transmission techniques.

III. Proposed Actions

OSHA is requesting to increase the existing burden-hour estimate for, and to extend OMB approval of, the collection-of-information requirements specified in § 1926.1127. In this regard, the Agency is requesting to increase the current burden-hour estimate from 36,388 hours to 36,631 hours, a total increase of 243 hours. This increase results mainly from reestimating the burden hours required for employers to determine if cadmium is present in the workplace and, if so, whether employee exposure above the action level is possible. OSHA will summarize the comments submitted in response to this notice, and will include this summary in its request to OMB to extend the approval of this information-collection requirements.

Type of Review: Extension of currently approved information-collection requirements.

Title: Cadmium in Construction.

OMB Number: 1218-0186.

Affected Public: Business or other for-profit; not-for-profit institutions; Federal government; State, local or tribal governments.

Number of Respondents: 10,000.

Frequency of Response: Occasionally.

Average Time per Response: From 5 minutes (.08 hour) to maintain an employee's medical or exposure record to 1.5 hours to administer an employee medical examination.

Estimated Total Burden Hours: 36,631 hours.

Estimated Cost (Operation and Maintenance): $2,232,500.

IV. Authority and Signature

R. Davis Layne, Acting Assistant Secretary of Labor for Occupational Safety and Health, directed the preparation of this notice. The authority for this notice is the Paperwork Reduction Act of 1995 (44 U.S.C. 3506), Secretary of Labor's Order No. 3-2000 (65 FR 50017).

Signed at Washington, DC on May 29, 2001.
R. Davis Layne,
Acting Assistant Secretary of Labor.

[FR Doc. 01-13924 Filed 5-31-01; 8:45 am]

BILLING CODE 4510-26-M